DEPARTMENT OF ENERGY

Federal Energy Regulatory Commission

Combined Notice of Filings

Take notice that the Commission has received the following Natural Gas Pipeline Rate and Refund Report filings:

Docket Numbers: RP20-683-000.

Applicants: Bison Pipeline LLC.

Description: Bison Pipeline LLC submits tariff filing per 154.203: Company Use Gas Annual Report 2020.

Filed Date: 03/26/2020.

Accession Number: 20200326-5037.

Comment Date: 5 p.m. ET 4/07/2020.

Docket Numbers: RP20-684-000.

Applicants: Trailblazer Pipeline Company LLC.

Description: Trailblazer Pipeline Company LLC submits tariff filing per 154.203: TPC 2019 Annual Purchases and Sales Report.

Filed Date: 03/26/2020.

Accession Number: 20200326-5103.

Comment Date: 5 p.m. ET 4/07/2020.

Docket Numbers: RP20-685-000.

Applicants: Rockies Express Pipeline LLC.

Description: Rockies Express Pipeline LLC submits tariff filing per 154.203: REX 2019 Annual Purchases and Sales Report.

Filed Date: 03/26/2020.

Accession Number: 20200326-5105.

Comment Date: 5 p.m. ET 4/07/2020.

Docket Numbers: RP20-686-000.

Applicants: Natural Gas Pipeline Company of America.

Description: Natural Gas Pipeline Company of America LLC submits tariff filing per 154.204: Negotiated Rate Filing—NIPSCO to be effective 4/1/2020.

Filed Date: 03/26/2020.

Accession Number: 20200326-5130.

Comment Date: 5 p.m. ET 4/07/2020.

Docket Numbers: RP20-687-000.

Applicants: Cheniere Corpus Christi Pipeline L.P.

Description: Annual Operational Transaction Report of Cheniere Corpus Christi Pipeline, L.P. under RP20-687.

Filed Date: 03/26/2020.

Accession Number: 20200326-5139.

Comment Date: 5 p.m. ET 4/07/2020.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2020.
Nathaniel J. Davis, Sr.,
Deputy Secretary.

[FR Doc. 2020-07020 Filed 4-2-20; 8:45 am]

BILLING CODE 6717-01-P